ELECTION ASSISTANCE COMMISSION

Federal Advisory Committee Act; Standards Board Charter Renewal

AGENCY: Election Assistance Commission.

ACTION: Notice of charter renewal.

SUMMARY: In accordance with the Federal Advisory Committee Act (Pub. L. 92-463), the purpose of this notice is to announce that the Election Assistance Commission (EAC) has renewed the charter for the Standards Board for a two-year period through October 18, 2012. The Standards Board is a federal advisory committee under the Federal Advisory Committee Act.

DATES: Renewed through October 18, 2012.

ADDRESSES: Election Assistance Commission, 1201 New York Avenue, NW., Suite 300, Washington, DC 20005.

FOR FURTHER INFORMATION CONTACT: Gineen M. Bresso, Designated Federal Officer, at (202) 566-3100. E-mail: standardsboard@eac.gov.

SUPPLEMENTARY INFORMATION: The Standards Board is a Federal advisory committee created by statute whose mission is to advise the EAC through review of the voluntary voting systems guidelines; through review of voluntary guidance; and review of best practices recommendations. In accordance with the Federal Advisory Committee Act, Public Law 92-463, as amended, this notice advises interested persons of the renewal of the Standards Board charter.

Gineen M. Bresso,
Commissioner, U.S. Election Assistance Commission.

[FR Doc. 2010-27091 Filed 10-25-10; 8:45 am]

BILLING CODE 6820-KF-P